DEPARTMENT OF TRANSPORTATION

Pipeline and Hazardous Materials Safety Administration

Notice of Applications for Modification of Special Permit

AGENCY: Office of Hazardous Materials Safety, Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before March 19, 2014.

ADDRESSES: Send comments to: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, on February 18, 2014.
Donald Burger,
Chief, General Approvals and Permits.

Modification Special Permits
Application No. | Docket No. | Applicant | Regulation(s) affected | Nature of special permits thereof
9610-M |  | ATK Small Caliber Systems Independece, MO Part | 49 CFR 172.201(c), Subpart F of 172, 172.301(c), 172.203(a), 174.59, and 174.61(a) | To modify the special permit to authorize Class 1 smokeless powder UN0161 in combination packaging.
10832-M |  | Autoliv ASP, Inc. Ogden, UT | 49 CFR 173.56(b), and 173.61(a) | To modify the special permit to remove the inner packaging requirements, remove the requirement for trays in outer packaging, and update locations where the permit may be used.
11826-M |  | Linde Gas North America, LLC. Murray Hill, NJ | 49 CFR 173.302(a)(5) | To modify the special permit to authorize the requalification of cylinders manufactured in accordance with DOT-SP 12399 and 14546, and the use of ultrasonic requalification.
11993-M |  | Key Safety Systems Lakeland, FL | 49 CFR 173.301(a)(1), and 173.302a | To modify the special permit to add a Division 2.2 material.
12122-M |  | ARC Automotive, Inc. Knoxville, TN | 49 CFR 173.301(a)(1), 173.302(a)(2), 178.65(f)(2), and 178.65(i)(3) | To modify the special permit to remove the requirement for marking the special and permit number on the package and shipping papers, and also remove the requirement of providing a copy of the special permit when offered for transportation.
12629-M |  | TEA Technologies, Inc. Amarillo, TX | 49 CFR 180.209(a), 180.205(c), (f), (g) and (i), 173.302a(b) (2), (3), (4) and (5), and 180.213 | To modify the special permit to authorize testing to be performed by a person that is certified by TEA Technologies.
14313-M |  | Airgas USA, LLC. Tulsa, OK | 49 CFR 173.302a(b)(2), 180.205, 172.203(a), 172.301(c) | To authorize the use of ultrasonic inspection as an alternative retest method for certain cylinders manufactured under a DOT special permit.
14392-M |  | U.S. Department of Defense Scott AFB, IL | 49 CFR 172.101 Column (10B), 176.83(a),(b) and (g), 176.84(c)(2), 176.136, 176.144(a), 172.203(a), and 172.302(c). | To modify the special permit to authorize all Government owned Maritime Prepostioning Ships to use alternative stowage.
14999-M |  | Classic Helicopter Group, LLC (Former Grantee Classic Helicopters Limited L.C.) Woods Cross, UT | 49 CFR 172.101 Column (9B), 172.204(c)(3), 173.27(b)(2), 175.30(a)(1), 172.200, 172.300, and 175.75 | To modify the special permit to authorize additional Division 1.1 materials and remove the requirement that the propane cylinders must be transported in approved netting.
15448-M |  | U.S. Department of Defense Scott AFB, IL | 49 CFR 172.320, 173.51, 173.56, 173.57 and 173.58 | To modify the special permit to authorize Class 2, 3, 4, 5, 6, 7, 8, and 9 materials under interim hazard class.
15735-M |  | W.R. Grace & Co.-Conn. Columbia, MD | 49 CFR 173.242(d) | To modify the special permit to authorize Divison 4.2 materials.
15788-M |  | Amtrol-Alfa, Metalomecanica SA Portugal | 49 CFR 173.302a(a)(1), 180.205 | To modify the special permit to address requests made in the original application submitted on December 26, 2012.
15865-M |  | HeliStream Inc. Costa Mesa, CA | 49 CFR 172.101 Column(9B), 172.301(c), 175.30, 175.33, Part 178, and 175.75 | To modify the special permit to authorize Class 1, 2, 4, 8, 9, and additional Class 3 materials.
9847-M |  | FIBA Technologies, Inc. Millbury, MA | 49 CFR 180.209(a), 180.205(c), (f), (g) and (i), 173.302a b) (2), (3), (4) and (5), and 180.213 | To modify the special permit so that alternative certifications may be authorized (for personnel responsible for performing cylinder retesting.
10427-M |  | Astrotech Space Operations, Inc. Titusville, FL | 49 CFR 173.61(a), 173.301(g), 173.302(a), 173.336, 177.848(d) | To modify the special permit to authorize additional launch vehicles and increase the amount of and Anhydrous ammonia to 120 pounds.
10869-M |  | Norris Cylinder Company Longview, TX | 49 CFR 173.301(a), 173.302a, 180.205(c), 180.205(c), (f) and (g), and 180.2015 | To modify the special permit to revise the referenced drawings.
12362-M |  | U.S. Department of Defense Scott AFB, IL | 49 CFR 176.164(c) | To modify the special permit to authorize all Government owned Maritime Prepostioning Ships to use alternative stowage.
13997-M |  | Maritime Helicopters, Inc. Homer, AK | 49 CFR 172.101(9b), 172.204(c)(3), 173.27(b)(2), 175.30(a)(1), 172.200, 172.300, 172.400, 175.75, 172.301(c), 172.302(c), and Part 178. | To modify the special permit to authorize an increase in portable tank capacity and the addition of Class 3 materials.
14283-M |  | U.S. Department of Energy Washington, DC | 49 CFR 172.203(g)(1), 172.302(a), 172.331, 172.332, 174.59, 172.310(b) and (c), 172.403, 173.427(b), 173.443(c) and (d), 174.715(a), and 177.843(a) and (b), and 174.26 | To modify the special permit to authorize an increase in the payload weight.
14296-M |  | GasCon (Pty) Ltd. Elsies River 7480 | 49 CFR 178.274(b)(1), and 178.276(b)(1) | To modify the special permit to authorize the latest revision of the ASME, Section VIII Division 2.
14467-M |  | Brenner Tank, LLC Fond Du Lac, WI | 49 CFR 178.345-2, 178.346-2, 178.347-2, and 178.348-2 | To modify the special permit to authorize additional duplex stainless steel grades.
14867-M |  | GTM Manufacturing, LLC Amarillo, TX | 49 CFR 173.302a and 173.304 | To modify the special permit to authorize Division 2.3 materials.
15335-M |  | Seastar Chemicals Inc. Sidney, BC | 49 CFR 173.158(f)(3) | To modify the special permit to authorize alternative threaded closure caps.
15558-M |  | 3M Company St. Paul, MN | 49 CFR 173.212, 172.301(a) and (c) | To modify the special permit to authorize the use of non-specification stainless steel portable tanks.
15806-M |  | Precision Technik Atlanta, GA | 49 CFR 173.3(d)(2)(ii) | To modify the special permit to authorize an increase in the minimum allowable working pressure.

[FR Doc. 2014-04269 Filed 3-3-14; 8:45 am]

BILLING CODE 4909-60-P